SOCIAL SECURITY ADMINISTRATION

Agency Information Collection Activities: Proposed Request and Comment Request

The Social Security Administration (SSA) publishes a list of information collection packages that will require clearance by the Office of Management and Budget (OMB) in compliance with Pub. L. 104-13 effective October 1, 1995, The Paperwork Reduction Act of 1995. The information collection packages that may be included in this notice are for new information collections, revisions to OMB-approved information collections and extensions (no change) of OMB-approved information collections.

SSA is soliciting comments on the accuracy of the agency's burden estimate; the need for the information; its practical utility; ways to enhance its quality, utility and clarity; and on ways to minimize burden on respondents, including the use of automated collection techniques or other forms of information technology. Written comments and recommendations regarding the information collection(s) should be submitted to the OMB Desk Officer and the SSA Reports Clearance Officer. The information can be mailed and/or faxed to the individuals at the addresses and fax numbers listed below:

(OMB), Office of Management and Budget, Attn: Desk Officer for SSA, New Executive Office Building, Room 10235, 725 17th St., NW., Washington, DC 20503. Fax: 202-395-6974.

(SSA), Social Security Administration, DCFAM, Attn: Reports Clearance Officer, 1338 Annex Bldg., 6401 Security Blvd., Baltimore, MD 21235. Fax: 410-965-6400.

I. The information collections listed below are pending at SSA and will be submitted to OMB within 60 days from the date of this notice. Therefore, your comments should be submitted to SSA within 60 days from the date of this publication. You can obtain copies of the collection instruments by calling the SSA Reports Clearance Officer at 410-965-0454, or by writing to the address listed above.

1. Statement of Employer—20 CFR 404.801-404.803-0960-0030. The information collected by SSA on form SSA-7011 is needed to substantiate allegations of wages paid to workers when those wages do not appear in SSA's records of earnings and the worker does not have proof that payment was made. This information is used to process claims for social security benefits and to resolve discrepancies in earnings records. The respondents are certain employers who can verify allegations of wages made by the wage earner.

Type of Request: Extension of an OMB-approved Information Collection.

Number of Respondents: 925,000.

Frequency of Response: 1.

Average Burden Per Response: 20 minutes.

Estimated Annual Burden: 308,333 hours.

2. Request to be Selected as Payee—20 CFR 404.2010-404.2025; 20 CFR 416.601-416.665-0960-0014. The information collected by SSA on form SSA-11-BK is used to determine the proper payee for a Social Security beneficiary, and it is designed to aid in the investigation of a payee applicant. The form will establish the applicant's relationship to the beneficiary, the justification of the need for a payee, the concern for the beneficiary and the manner in which the benefits will be used. The respondents are applicants for selection as representative payee for Old Age, Survivors and Disability Insurance, Supplemental Security Income (SSI), and title-VIII Special Veterans Benefits.

Type of Request: Extension of an OMB-approved Information Collection.

Number of Respondents: 2,121,686.

Frequency of Response: 1.

Average Burden Per Response: 10.5 minutes.

Estimated Annual Burden: 371,295 hours.

3. Appointment of Representation—20 CFR 404.1707, 410.684, and 416.1507-0960-0527. The information collected by SSA on form SSA-1696-U4 is used to verify the applicant's appointment of a representative. It allows SSA to inform the representative of items which affect the applicant's claim. The affected public consists of applicants who notify SSA that they have appointed a person to represent them in their dealings with SSA when claiming a right to benefits.

Type of Request: Extension of an OMB-approved Information Collection.

Number of Respondents: 551,520.

Frequency of Response: 1.

Average Burden Per Response: 10 minutes.

Estimated Annual Burden: 91,920.

4. Application for Special Benefits for World War II Veterans—20 CFR, Subpart C, 408-0960-0615. Form SSA-2000-F6 is used by SSA to elicit information necessary to determine the entitlement of an individual to a monthly benefit under title VIII of the Social Security Act. The respondents are persons outside the U.S. applying for benefits for themselves (or for someone else) under title VIII of the Act.

Type of Request: Extension of an OMB-approved Information Collection.

Number of Respondents: 400.

Frequency of Response: 1.

Average Burden Per Response: 20 minutes.

Estimated Annual Burden: 133 hours.

5. Third Party Liability Information Statement—42 CFR 433.136-433.139—0960-0323. SSA obtains third party liability information for States under the terms of an agreement with the Centers for Medicare and Medicaid Services, which oversees administration of the Medicaid program. Medicaid State agencies use the information that SSA gathers on Form SSA-8019-U2 to bill third parties liable for medical care, support, or services to insure that Medicaid remains the payer of last resort. The respondents are Supplemental Security Income applicants and beneficiaries.

Type of Request: Extension of an OMB-approved Information Collection.

Number of Respondents: 95,000.

Frequency of Response: 1.

Average Burden Per Response: 5 minutes.

Estimated Annual Burden: 7,917 hours.

6. Prohibition of Payments of SSI Benefits to Fugitive Felons and Parole/Probation Violators—20 CFR 416.708—0960-0617. Section 1611(e) of the Social Security Act provides that a person shall not be considered an eligible individual or eligible spouse for purposes of the SSI program for any month during which the person is fleeing to avoid prosecution for a crime, or an attempt to commit a crime, which is a felony under the laws of the place from which the person flees (or which, in the case of the State of New Jersey, is a high misdemeanor under the laws of the State); is fleeing to avoid custody or confinement after conviction for a crime, or an attempt to commit a crime, which is a felony under the laws of the place from which the person flees (or which, in the case of the State of New Jersey, is a high misdemeanor under the laws of the State); or is violating a condition of probation or parole imposed under Federal or State law. 20 CFR 416.708 describes events which must be reported by an individual receiving SSI benefits, a representative payee for an SSI recipient, or an applicant awaiting a final decision on an application for SSI benefits. The information reported will be used by SSA to determine eligibility for SSI benefits or whether to suspend SSI benefit payments. The respondents are SSI applicants or recipients, or the representative payee of same, who are in violation of the above stipulations.

Type of Request: Extension of an OMB-approved Information Collection.

Number of Respondents: 1,000.

Frequency of Response: 1.

Average Burden Per Response: 1 minute.

Estimated Annual Burden: 17 hours.

7. Request for Internet Service—Authentication—20 CFR 401.45—0960-0596. The Information collected on the electronic request for Internet Service, Authentication, is used by the Social Security Administration to identify its customers who are requesting Privacy Act protected information. The respondents are members of the public who request services from SSA through the Internet.

Type of Request: Extension of an OMB-approved Information Collection.

Number of Respondents: 21,000.

Frequency of Response: 1.

Average Burden Per Response: 1.5 minutes.

Estimated Annual Burden: 525 hours.

The information collection listed below has been submitted to OMB for clearance. Your comments on the information collection would be most useful if received by OMB and SSA within 30 days from the date of this publication. You can obtain a copy of the OMB clearance package by calling the SSA Reports Clearance Officer at 410-965-0454 or by writing to the address listed above.

Instructions for Completion of Federal Assistance Application—0960-0184. The information on Form SSA-96 will be used to assist SSA in selecting grant proposals for funding based on their technical merits. The information will also assist in evaluating the soundness of the design of the proposed activities, the possibilities of obtaining productive results, the adequacy of resources to conduct the activities and the relationship to other similar activities that have been or are being conducted. The respondents are State and local governments, State-designated protection and advocacy groups, colleges and universities and profit and nonprofit private organizations.

Type of Request: Extension of an OMB-approved Information Collection.

Number of Respondents: 200.

Frequency of Response: 8.

Average Burden Per Response: 14 hours.

Estimated Annual Burden: 22,400 hours.

Dated: March 6, 2003.
Elizabeth A. Davidson,
Reports Clearance Officer, Social Security Administration.

[FR Doc. 03-5789 Filed 3-11-03; 8:45 am]

BILLING CODE 4191-02-P